DEPARTMENT OF COMMERCE

National Oceanic and Atmospheric Administration

RIN: 0648-XD47

Gulf of Mexico Fishery Management Council; Public Meetings

AGENCY: National Marine Fisheries Service (NMFS), National Oceanic and Atmospheric Administration (NOAA), Commerce.

ACTION: Notice of a public meeting.

SUMMARY: The Gulf of Mexico Fishery Management Council will convene a public meeting of the Ad Hoc Recreational Red Snapper Advisory Panel (AP).

DATES: The meeting will convene at 1 p.m. on Tuesday, November 13, 2007 and conclude no later than 3 p.m. on Wednesday, November 14, 2007.

ADDRESSES: This meeting will be held at the InterContinental Hotel, 4860 W. Kennedy Blvd., Tampa, FL 33609; telephone: (813) 286-4400.

Council address: Gulf of Mexico Fishery Management Council, 2203 North Lois Avenue, Suite 1100, Tampa, FL 33607.

FOR FURTHER INFORMATION CONTACT: Steven Atran, Population Dynamics Statistician; Gulf of Mexico Fishery Management Council; telephone: (813) 348-1630.

SUPPLEMENTARY INFORMATION: At this meeting, the AP will evaluate and recommend innovative management strategies for the private and for-hire recreational red snapper fisheries of the Gulf of Mexico, and evaluate and recommend innovative approaches to minimizing bycatch and bycatch mortality in the private and for-hire recreational red snapper fisheries of the Gulf of Mexico. Approaches that could be considered for management of the recreational red snapper fishery include, but are not limited to, random distribution systems such as lotteries, community-based approaches, incentive-based approaches, effort control, and, any other novel approaches deemed relevant by the AP. Approaches to minimize bycatch and bycatch mortality could include, but are not limited to, methods to improve the survival of released fish, methods to avoid the capture of undersized or out-of-season fish and, methods to account for otherwise unavoidable regulatory discards. The AP may also discuss related issues such as regional management, monitoring methods, accountability measures, or other issues associated with management of the recreational red snapper fishery.

Although other issues not on the agenda may come before the panel for discussion, in accordance with the Magnuson-Stevens Fishery Conservation and Management Act, those issues may not be the subject of formal panel action during this meeting. Panel action will be restricted to those issues specifically identified in the agenda listed as available by this notice.

A copy of the agenda can be obtained by calling (813) 348-1630.

Special Accommodations

This meeting is physically accessible to people with disabilities. Requests for sign language interpretation or other auxiliary aids should be directed to Tina Trezza at the Council (see ADDRESSES) at least 5 working days prior to the meeting.

Dated: October 16, 2007.
Tracey L. Thompson,
Acting Director, Office of Sustainable Fisheries, National Marine Fisheries Service.

[FR Doc. E7-20634 Filed 10-18-07; 8:45 am]

BILLING CODE 3510-22-S